DEPARTMENT OF LABOR

Employment and Training Administration

[TA-W 55,678]

C&D Technologies, LLC, Formerly Celestica Milwaukie, OR; Notice of Termination of Investigation

Pursuant to section 221 of the Trade Act of 1974, as amended, an investigation was initiated on September 24, 2004 in response to a petition filed by a company official on behalf of workers at C&D Technologies, LLC, formerly Celestica, Milwaukie, Oregon.

The petitioner has requested that the petition be withdrawn. Consequently, the investigation has been terminated.

Signed at Washington, DC this 22nd day of October 2004.
Richard Church,
Certifying Officer, Division of Trade Adjustment Assistance.

[FR Doc. E4-3023 Filed 11-4-04; 8:45 am]

BILLING CODE 4510-30-P